FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Panda Logistics USA, Inc., 19600 S. Alameda Street, Ste. #1, Rancho Dominguez, CA 90221. Officer: Chao Cooper, CEO, (Qualifying Individual).

Cargolinx Inc., 8272 NW 68 Street, Miami, FL 33166. Officer: Maria C. Calderon, President, (Qualifying Individual).

C & S Shipping LLC, 10073 Valley View, Cypress, CA 90630. Officer: Shelbi McFarland, Member, (Qualifying Individual).

American Logistics Network, LLC, One Maynard Drive, Park Ridge, NJ 07656. Officers: Edward J. Cermack, V. President—Logistics, (Qualifying Individual), Raymond P. Ebeling, President.

ALLogistx International, Inc., 267 St. Albans, Pasadena, CA 91030. Officers: Nick Vyas, Chief Exec. Officer, (Qualifying Individual), Hemali Vyas, Secretary.

Operadores Mundiales USA, Inc., 2025 NW 102 Ave., Miami, FL 33172. Officers: Elvis Garcia, Branch Manager, (Qualifying Individual), Leandro Girat, President.

American Independent Line, Inc. dba American Breakbulk Line dba American Independent Shipping Company, 40 Shuman Blvd., Ste. 245, Naperville, IL 60563. Officer: William J. Moffitt, President, (Qualifying Individual).

American Royal International, 373 Beach Road, Burlingame, CA 94010. Officers: Alan Yamaguma, Secretary, (Qualifying Individual), Khosrow Khorrami, President.

Non-Vessel Operating Common Carrier and Ocean Freight Forwarder Transportation Intermediary Applicants

Network Brokers International, Inc., 145 Hook Creek Blvd., Bldg. C1-0, Valley Stream, NY 11581. Officer: Judith A. Kearney, President, (Qualifying Individual).

ABX Logistics (USA) Inc., 7651 Esters Blvd., Irving, TX 75063. Officer: Marlene Brommund, Vice President, (Qualifying Individual).

A.L.S. Ocean Services, Inc., 1724 Ashbury Court, Bedford, TX 76021. Officers: Dee A. Hyman, President, (Qualifying Individual), Michael Hyman, Vice President.

E-Z Cargo Inc., 501 New Country Road, Secaucus, NJ 07094. Officers: Alevtina Michina, Treasurer, (Qualifying Individual), Michaeal Abramov, President.

U.S. Intermodal Maritime, Inc., 20233 80th Avenue, Ste. #B, Kent, WA 98032. Officer: Wangsoo Kim, President, (Qualifying Individual).

Nakamura Air Express (USA), Inc. dba Nax (USA), Inc., 5343 W. Imperial Hwy., Ste. 100, Los Angeles, CA 90045. Officer: Shiro Kobayashi, Operating Officer, (Qualifying Individual).

Huntington International, Inc., 411 E. Huntington Dr., Ste. 312, Arcadia, CA 91006. Officers: Kathy Lu, Secretary, (Qualifying Individual), Yin Nam Cheung, Chief Executive.

Zackmack LLC, 10049 NW 89th Avenue, Bay #12, Medley, FL 33178. Officers: Vernon St. Anthony Scott, Acct. Executive, (Qualifying Individual), Pierre A. Zacca, Manager.

MEGA Supply Chain Solutions Inc., 9449 8th Street, Rancho Cucamonga, CA 91730. Officers: Kimberly K. Arnold, V. Pres.—Int'l. Opera., (Qualifying Individual).

Simple Freight Solutions, Inc., 981 Spur Dr. North, Bay Shore, NY 11706. Officers: Patrick Oliva II, President, (Qualifying Individual), Amanda M. Oliva, Vice President.

Freight Expediters, Inc., 6920 Engle Road, Middleburg Heights, OH 44130. Officer: Joseph Bonvissuto, President, (Qualifying Individual).

ABA Cargo, Inc., 6185 NW 74th Ave., Miami, FL 33166. Officers: Delia Solis, Secretary, (Qualifying Individual), Claudio Rozentzvaig, President.

Ocean Freight Forwarder—Ocean Transportation Intermediary Applicants

Taggart International, Ltd., 1792 Red Oak Ct., Liberty, MO 64068. Officers: Sean K. Scarbrough, Vice President, (Qualifying Individual), Elizabeth L. Scarbrough, President.

Automated Customs Experts Group, Inc., 9163 Siempre Viva Road, Ste. A-E, San Diego, CA 92154. Officer: Francisco Ramirez, Jr., President, (Qualifying Individual).

Classic Freight Services, Inc., 6414 A South Howell Ave., Oak Creek, WI 53154. Officer: Monica E. Hintz, President, (Qualifying Individual).

Raphael Global Forwarding LLC, 1605 Boardman Ave., West Palm Beach, FL 33407. Officer: Doreid Raphael, Manager, (Qualifying Individual).

EXP Logistics Corporation, 495 Lake Mirror Road, Ste. M, Atlanta, GA 30349. Officers: Sharon Cummings, President, (Qualifying Individual), James Cummings, Vice President.

Posner, Corp., 610 Caitlyn Ct., Houston, TX 77094. Officers: Victor Byaly, President, (Qualifying Individual), Iriana Byaly, Director.

Emex Inc., 7829 NW 72nd Ave., Miami, FL 33166. Officer: Michael J. Emeran, Vice President, (Qualifying Individual).

Ameriland Commercial LLC Dba Ameriland Logistics International, 9502 Bearden Creek Lane, Humble, TX 77396. Officers: Ran Zhang, Managing Member, (Qualifying Individual), Glen Chen, Managing Member.

AAA International Shipping, LLC, 509 Largovista Dr., Oakland, FL 34787. Officers: Ghassan L. Elkabat, President, (Qualifying Individual), Victor N. Budron, Vice President.

Trans BOS, LLC dba Transgroup International, 140 Eastern Ave., Chelsea, MA 02150. Officers: Angela E. Santillan, Vice President, (Qualifying Individual), Greg Vernoy, Member.

Dated: November 26, 2008.
Karen V. Gregory,
Secretary.

[FR Doc. E8-28566 Filed 12-1-08; 8:45 am]

BILLING CODE 6730-01-P